DEPARTMENT OF DEFENSE

Office of the Secretary

Threat Reduction Advisory Committee; Notice of Federal Advisory Committee Meeting

AGENCY: Office of the Under Secretary of Defense (Acquisition, Technology and Logistics), Department of Defense (DoD).

ACTION: Federal Advisory Committee meeting notice.

SUMMARY: The Department of Defense announces the following Federal advisory committee meeting of the Threat Reduction Advisory Committee (TRAC). This meeting will be closed to the public.

DATES: Tuesday, November 4, from 8:30 a.m. to 12:30 p.m. and 1:30 p.m. to 4:00 p.m. and Wednesday, November 5, 2014, from 8:30 a.m. to 3:30 p.m.

ADDRESSES: CENTRA Technology Inc., Ballston, Virginia on November 4 and CENTRA Technology Inc., Ballston, Virginia and the Pentagon, Arlington, Virginia on November 5.

FOR FURTHER INFORMATION CONTACT: Mr. William Hostyn, DoD, Defense Threat Reduction Agency J2/5/8R-AC, 8725 John J. Kingman Road, MS 6201, Fort Belvoir, VA 22060-6201. Email: william.hostyn@dtra.mil. Phone: (703) 767-4453. Fax: (703) 767-4206.

SUPPLEMENTARY INFORMATION: Purpose of Meeting: This meeting is being held under the provisions of the Federal Advisory Committee Act of 1972 (FACA) (5 U.S.C., Appendix, as amended), the Government in the Sunshine Act of 1976 (5 U.S.C. 552b, as amended), and 41 CFR 102-3.150. The Committee will obtain, review and evaluate classified information related to the Committee's mission to advise on technology security, Combating Weapons of Mass Destruction (C-WMD), counterterrorism, and counterproliferation.

Agenda: On Tuesday, November 4, the TRAC will receive a CIA/DIA current classified intelligence update. Following the opening remarks and intelligence update, the members will receive two classified reports from the TRAC information gathering groups on the Nuclear Strategic Stability and Cooperative Threat Reduction, taskings received from the Under Secretary of Defense for Acquisition, Technology and Logistics and the Assistant Secretary of the Army for Nuclear, Chemical and Biological Defense. The TRAC was asked to examine and present recommendations to the sponsor on strategic implications to possible changes to the U.S. Nuclear arsenal on U.S. strategies and allied viewpoints. The TRAC was also tasked by the sponsor to examine the Cooperative Threat Reduction program as it currently operates and the implications to U.S. obligations of possible modifications or direction changes. The TRAC will then deliberate on the information and produce a recommendation. During a working lunch, the TRAC members will continue to discuss the information and develop recommendations for the sponsor. At the afternoon session, the members will receive two classified briefings on the Defense Threat Reduction Agency's Constellation Information Fusion Project and the development of framing questions to be used in the Terms of Reference for an upcoming classified review of North Korean weapons programs. The meeting will wrap up with a final discussion on the briefings of the day.

The TRAC will continue to meet on November 5, 2014. The TRAC will hold classified discussions to receive information gathered for the TRAC's tasking to evaluate and provide program recommendations for DoD's Global Health Security program, followed by an information presentation to the entire TRAC on potential effects of changes being considered to DoD's Chemical and Biological Defense Program.

The TRAC will provide an assessment on the program's ability to meet Congressional intent if the program is restructured. After deliberating and voting on the information provided to the entire committee by the information gathering groups, and approving the recommendations to be provided to the TRAC sponsor, the TRAC will then move to the Pentagon to continue the meeting and provide an executive outbrief to senior DoD leaders. The TRAC will then provide recommendations to DoD senior leaders on the Nuclear Strategic Stability and Chemical Biological Defense Program taskings, and an interim report of findings for the Global Health Security information gathering group. The session will conclude with a classified discussion on the way ahead and provide a classified senior leader briefing.

Meeting Accessibility: Pursuant to 5 U.S.C. 552b and 41 CFR 102-3.155, the Department of Defense has determined that the meeting of the TRAC on November 4-5, 2014, shall be closed to the public. The Under Secretary of Defense for Acquisition, Technology and Logistics, in consultation with the DoD FACA Attorney, has determined in writing that the public interest requires all sessions of this meeting be closed to the public because the discussions and sharing of information will be concerned with classified information and matters covered by 5 U.S.C. 552b(c)(1). Such classified matters are inextricably intertwined with the unclassified material and cannot reasonably be segregated into separate discussions without disclosing secret material.

Committee's Designated Federal Officer or Point of Contact: Mr. William Hostyn, DoD, Defense Threat Reduction Agency/J2/5/8R-ACP, 8725 John J. Kingman Road, MS 6201, Fort Belvoir, VA 22060-6201. Email: william.hostyn@dtra.mil. Phone: (703) 767-4453. Fax: (703) 767-4206.

Written Statements: Pursuant to 41 CFR 102-3.105(j) and 102-3.140 and section 10(a)(3) of FACA, the public or interested organizations may submit written statements to the membership of the TRAC at any time regarding its mission or in response to the stated agenda of a planned meeting. Written statements should be submitted to the TRAC's Designated Federal Officer. The Designated Federal Officer's contact information is listed in the section immediately above or it can be obtained from the General Services Administration's FACA Database: http://www.facadatabase.gov/committee/committee.aspx?cid=1663&aid=41. Written statements that do not pertain to a scheduled meeting of the Committee may be submitted at any time. However, if individual comments pertain to a specific topic being discussed at a planned meeting, then these statements must be submitted no later than five business days prior to the meeting in question. The Designated Federal Officer will review all submitted written statements and provide copies to all committee members.

Dated: October 14, 2014.
Aaron Siegel,
Alternate OSD Federal Register Liaison Officer, Department of Defense.

[FR Doc. 2014-24717 Filed 10-16-14; 8:45 am]

BILLING CODE 5001-06-P